NATIONAL ARCHIVES AND RECORDS ADMINISTRATION

36 CFR Part 1254

RIN 3095-AB14

Researcher Identification Cards

AGENCY: National Archives and Records Administration (NARA).

ACTION: Final rule.

SUMMARY: NARA is revising the general regulations concerning availability of records and donated historical materials to change the time period researcher identification cards are valid. NARA is reducing the valid time period to increase NARA's ability to obtain accurate address and telephone information. This will allow NARA to contact researchers if necessary and will ensure better protection of NARA's holdings, buildings, personnel, and the public. This final rule will affect individuals who do research in archival materials at NARA facilities.

EFFECTIVE DATE: November 12, 2002.

FOR FURTHER INFORMATION CONTACT: Jennifer Davis Heaps on 301-837-1801 or fax number 301-837-0319.

SUPPLEMENTARY INFORMATION: The proposed rule was published in the July 10, 2002, Federal Register (67 FR 45684) for a 60-day public comment period. NARA notified several researcher organizations of the availability of the proposed rule. A copy of the proposed rule was also posted on the NARA Web site.

NARA received no comments on the proposed rule. The final rule is published without change. The rule will apply to researcher identification cards issued on or after the effective date. Cards issued prior to that date will remain valid for the period indicated on the card.

This final rule is not a significant regulatory action for the purposes of Executive Order 12866 and has not been reviewed by the Office of Management and Budget. As required by the Regulatory Flexibility Act, I certify that this rule will not have a significant impact on a substantial number of small entities because it applies only to individuals. This rule has no federalism or tribalism implications. This rule is not a major rule as defined in 5 U.S.C. Chapter 8, Congressional Review of Agency Rulemaking.

List of Subjects in 36 CFR Part 1254

Archives and records, Confidential business information, Freedom of information, Micrographics.

For the reasons set forth in the preamble, NARA amends part 1254 of title 36, Code of Federal Regulations, as follows:

PART 1254—AVAILABILITY OF RECORDS AND DONATED HISTORICAL MATERIALS

1. The authority citation for part 1254 continues to read as follows:

Authority: 44 U.S.C. 2101-2118; 5 U.S.C. 552; and E.O. 12600, 52 FR 23781, 3 CFR, 1987 Comp., p. 235.

2. Revise § 1254.6(a) to read as follows:

§ 1254.6 Researcher identification card.

(a) An identification card is issued to each person whose application is approved to use records other than microfilm. Cards are valid for 1 year and may be renewed upon application. Cards issued at one NARA facility are valid at each facility, except as described in paragraph (b) of this section. They are not transferable and must be presented if requested by a guard or research room attendant.

* * * * *

Dated: October 4, 2002.
John W. Carlin,
Archivist of the United States.

[FR Doc. 02-25972 Filed 10-10-02; 8:45 am]

BILLING CODE 7515-01-P